DEPARTMENT OF COMMERCE

National Telecommunications and Information Administration

Proposed Information Collection; Comment Request; BroadbandMatch Web Site Tool

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 23, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Ian Martinez, Broadband Technology Opportunities Program, NTIA, at (202) 482-3027, imartinez@ntia.doc.gov.

SUPPLEMENTARY INFORMATION:

I. Abstract

Congress, through the American Recovery and Reinvestment Act, appropriated $7.2 billion and directed the Department of Agriculture's Rural Utilities Service (RUS) and the Department of Commerce's National Telecommunications Information Administration (NTIA) to expand broadband access to unserved and underserved communities across the U.S., increase jobs, spur investments in technology and infrastructure, and provide long-term economic benefits. The result is the RUS Broadband Initiatives Program (BIP) and the NTIA Broadband Technology Opportunities Program (BTOP). BIP makes loans and grants for broadband infrastructure projects in rural areas. BTOP provides grants to fund broadband infrastructure, public computer centers and sustainable broadband adoption projects.

NTIA Administrator Larry E. Strickling, in his testimony before the Senate Commerce Committee, suggested the use of a “comprehensive communities” strategy in BTOP's second round of funding, aimed at supporting middle mile projects to anchor institutions in the community, such as libraries, colleges and potentially hospitals or public safety organizations, ideally with commitments from last mile providers who would build off of the middle mile projects to residential end users. This type of partnership might have been burdensome to potential applicant partners and non-anchors that still wish to participate in the BTOP program; as such, in coordination with the White House's Open Government Initiative that seeks to promote transparency, openness and collaboration, NTIA decided to create a tool that would allow larger anchor institutions, smaller satellite organizations, Internet service providers and technical experts to find one another and create mutually beneficial partnerships.

The tool, BroadbandMatch (available at http://match.broadbandusa.gov), allows potential applicants to find partners for broadband projects, helping them to combine expertise and create stronger proposals. Now, in support of the Recovery Act's goals to create jobs, promote economic growth, and encourage participation of socially and economically disadvantaged small business concerns, BroadbandMatch includes small disadvantaged businesses desiring to provide goods and services for broadband projects around the country. It is a helpful resource for firms seeking contracting opportunities with BTOP grantees, among other participants, and for purchasers intending to diversify their suppliers.

Current participants will be solicited to continue their participation in the program by opting in; potentially, new participants will be encouraged through publicizing of BroadbandMatch using the press, conferences, and conversations between applicants/grantees and Federal program officers.

II. Method of Collection

Participants in BroadbandMatch fill out an organizational profile form, containing information such as category or type of organization, preferred partnerships, geographic location, and basic contact information.

III. Data

OMB Control Number: 0660-0033.

Form Number(s): None.

Type of Review: Regular submission (Extension of a currently approved information collection).

Affected Public: Individuals or households; business or other for-profit organizations.

Estimated Number of Respondents: 4,500.

Estimated Time per Response: 15 minutes.

Estimated Total Annual Burden Hours: 1,125.

Estimated Total Annual Cost to Public: $0.

IV. Requests for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2010.
Gwellnar Banks,
Management Analyst, Office of the Chief Information Officer.

[FR Doc. 2010-15107 Filed 6-22-10; 8:45 am]

BILLING CODE 3510-06-P